DEPARTMENT OF TRANSPORTATION

Federal Aviation Administration

14 CFR Part 39

[Docket No. FAA-2004-19987; Directorate Identifier 2004-NM-203-AD]

RIN 2120-AA64

Airworthiness Directives; McDonnell Douglas Model 717-200 Airplanes

AGENCY: Federal Aviation Administration (FAA), DOT.

ACTION: Notice of proposed rulemaking (NPRM).

SUMMARY: The FAA proposes to adopt a new airworthiness directive (AD) for certain McDonnell Douglas Model 717-200 airplanes. This proposed AD would require replacing eight brake fuses of the hydraulic quantity limiter with new or modified and reidentified fuses. This proposed AD is prompted by reports indicating that brake fuses of the hydraulic quantity limiter of the main landing gear have failed. We are proposing this AD to prevent loss of both hydraulic and brake systems if one fuse on each hydraulic system were to fail simultaneously, and consequent reduced controllability of the airplane.

DATES: We must receive comments on this proposed AD by February 22, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, Long Beach Division, 3855 Lakewood Boulevard, Long Beach, California 90846, Attention: Data and Service Management, Dept. C1-L5A (D800-0024).

You can examine the contents of this AD docket on the Internet at http://dms.dot.gov, or in person at the Docket Management Facility, U.S. Department of Transportation, 400 Seventh Street, SW., room PL-401, on the plaza level of the Nassif Building, Washington, DC. This docket number is FAA-2004-19987; the directorate identifier for this docket is 2004-NM-203-AD.

FOR FURTHER INFORMATION CONTACT: Technical information: Albert Lam, Aerospace Engineer, Systems and Equipment Branch, ANM-130L, FAA, Los Angeles Aircraft Certification Office, 3960 Paramount Boulevard, Lakewood, California 90712-4137; telephone (562) 627-5346; fax (562) 627-5210.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19987; Directorate Identifier 2004-NM-203-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received reports indicating that brake fuses of the hydraulic quantity limiter of the main landing gear (MLG) have failed on several McDonnell Douglas Model 717-200 airplanes. The failures occurred at the brake fuse cap due to fatigue, resulting in hydraulic fluid and pressure loss from the affected system. Typically, the failure would manifest itself when full braking pressure is applied (e.g., at the beginning of a rejected takeoff or when the parking brake is set). This condition, if not corrected, could result in loss of both hydraulic and brake systems if one fuse on each hydraulic system were to fail simultaneously, and consequent reduced controllability of the airplane.

Relevant Service Information

We have reviewed Boeing Alert Service Bulletin 717-32A0031, dated September 10, 2004. The service bulletin describes procedures for replacing eight brake fuses of the hydraulic quantity limiter with new or modified and reidentified fuses. Accomplishing the actions specified in the service information is intended to adequately address the unsafe condition.

The service bulletin refers to Parker Hanninfin Corporation Stratoflex Products Division Service Bulletin 836SD-8-6-20, Revision 1, dated June 23, 2004, as an additional source of service information for modifying and reidentifying the brake fuses.

FAA's Determination and Requirements of the Proposed AD

We have evaluated all pertinent information and identified an unsafe condition that is likely to exist or develop on other airplanes of this same type design. Therefore, we are proposing this AD, which would require accomplishing the actions specified in the Boeing service information described previously.

Costs of Compliance

There are about 133 airplanes of the affected design in the worldwide fleet and 103 airplanes on the U.S. registry. The following table provides the estimated costs for U.S. operators to comply with this proposed AD.

Estimated Costs
Action | Work hours | Average labor rate per hour | Parts | Cost per airplane
Option 1. Replacement with new brake fuses | 9 | $65 | No Charge | $585
Option 2. Replacement with modified and reidentified brake fuses | 13 | 65 | No Charge | 845

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701, “General requirements.” Under that section, the FAA is charged with promoting safe flight of civil aircraft in air commerce by prescribing regulations for practices, methods, and procedures the Administrator finds necessary for safety in air commerce. This regulation is within the scope of that authority because it addresses an unsafe condition that is likely to exist or develop on products identified in this AD.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

McDonnell Douglas: Docket No. FAA-2004-19987; Directorate Identifier 2004-NM-203-AD.

Comments Due Date

(a) The Federal Aviation Administration (FAA) must receive comments on this AD action by February 22, 2005.

Affected ADs

(b) None.

Applicability

(c) This AD applies to McDonnell Douglas Model 717-200 airplanes, fuselage numbers 5002 through 5134 inclusive; certificated in any category.

Unsafe Condition

(d) This AD was prompted by reports indicating that brake fuses of the hydraulic quantity limiter of the main landing gear (MLG) have failed. We are issuing this AD to prevent loss of both hydraulic and brake systems if one fuse on each hydraulic system were to fail simultaneously, and consequent reduced controllability of the airplane.

Compliance

(e) You are responsible for having the actions required by this AD performed within the compliance times specified, unless the actions have already been done.

Compliance Times

(f) At the applicable time in Table 1 of this AD, do the action required by paragraph (g) of this AD.

Table 1.—Compliance Times
For airplanes having— | Compliance time
(1) Less than 5,000 total flight cycles as of the effective date of this AD | Within 3,600 flight cycles after the effective date of this AD.
(2) 5,000 or more total flight cycles as of the effective date of this AD | Within 1,500 flight cycles after the effective date of this AD.

Replacement

(g) Replace the eight brake fuses of the hydraulic quantity limiter by doing either Option 1 or Option 2 in Table 2 of this AD in accordance with Boeing Alert Service Bulletin 717-32A0031, dated September 10, 2004.

Table 2.—Replacement
Option— | Replace eight fuses having part number (P/N) 7918282-5503 with—
1 | New fuses having P/N 7918282-5505.
2 | Modified and reidentified fuses having P/N 7918282-5505.

Note 1: Boeing Alert Service Bulletin 717-32A0031 refers to Parker Hanninfin Corporation Stratoflex Products Division Service Bulletin 836SD-8-6-20 Revision 1, dated June 23, 2004, as an additional source of service information for modifying and reidentifying the brakes fuses.

Parts Installation

(h) As of the effective date of this AD, no person may install a brake fuse, P/N 7918282-5503, on any airplane.

Alternative Methods of Compliance (AMOCs)

(i) The Manager, Los Angeles Aircraft Certification Office (ACO), FAA, has the authority to approve AMOCs for this AD, if requested in accordance with the procedures found in 14 CFR 39.19.

Issued in Renton, Washington, on December 27, 2004.
Kevin M. Mullin,
Acting Manager, Transport Airplane Directorate, Aircraft Certification Service.

[FR Doc. 05-168 Filed 1-4-05; 8:45 am]

BILLING CODE 4910-13-P